DEPARTMENT OF LABOR

Employment and Training Administration

[TA-W-58,329]

Conopco, Inc., a Subsidiary of Unilever U.S., Asheboro, NC; Notice of Termination of Investigation

Pursuant to section 221 of the Trade Act of 1974, as amended, an investigation was initiated on November 14, 2005 in response to a worker petition filed by a company official on behalf of workers at Conopco, Inc., a subsidiary of Unilever U.S., Asheboro, North Carolina.

The petitioner has requested that the petition be withdrawn. Consequently, the investigation has been terminated.

Signed at Washington, DC, this 15th day of December 2005.
Richard Church,
Certifying Officer, Division of Trade Adjustment Assistance.

[FR Doc. E5-7953 Filed 12-27-05; 8:45 am]

BILLING CODE 4510-30-P